DEPARTMENT OF ENERGY

Federal Energy Regulatory Commission

[Project No. 3211-010]

New York Power Authority; Notice of Denial of Water Quality Certification

On July 31, 2020, the New York Power Authority (NYPA) filed an application for a new license for the Hinckley (Gregory B. Jarvis) Hydroelectric Project (project) in the above captioned docket. NYPA filed with the New York State Department of Environmental Conservation (New York DEC) a request for water quality certification for the project under section 401(a)(1) of the Clean Water Act on March 11, 2022. On March 7, 2023, New York DEC denied certification for the project. Pursuant to 40 CFR 121.8, we are providing notice that New York DEC's denial satisfies the requirements of 40 CFR 121.7(e).

Dated: March 16, 2023.
Kimberly D. Bose,
Secretary.

[FR Doc. 2023-05888 Filed 3-21-23; 8:45 am]

BILLING CODE 6717-01-P